DEPARTMENT OF LABOR

Employment and Training Administration

[TA-W-40, 687 & NAFTA-05749]

Goodyear Dunlop Tires, N.A. Ltd, Huntsville, AL; Notice of Revised Determination on Remand

The United States Court of International Trade (USCIT) granted the Secretary of Labor's motion for voluntary remand for further investigation of the negative determinations in United Steel Workers of America, Local 915L, District 9, AFL-CIO v. Elaine L. Chao, U.S. Secretary of Labor (Court No. 02-00457).

The Department's initial denial of the Trade Adjustment Assistance (TAA) petition for employees of Goodyear Dunlop, N.A. LTD, Huntsville (TA-W-40, 687), was issued on May 3, 2002 and published in the Federal Register on May 17, 2002 (67 FR 35140). The denial was based on the fact that criterion (3) of the Group Eligibility Requirements of Section 222 of the Trade Act of 1974, as amended, was not met. Increased imports did not contribute importantly to worker separations at the subject firm.

The Department's initial denial of the NAFTA-Transitional Adjustment Assistance (NAFTA) petition for employees of Goodyear Dunlop, N.A. LTD, Huntsville, Alabama (NAFTA-05749) was issued on May 3, 2002 and published in the Federal Register on May 17, 2002 (67 FR 35142). The denial was based on the fact that criteria (3) and (4) of the Group Eligibility Requirements of Section 250 of the Trade Act of 1974 were not met. Imports from Canada or Mexico did not contribute importantly to worker separations nor was there a shift in production from the subject firm to Canada or Mexico during the relevant period.

On remand, the Department requested additional information from the company. Based on the data supplied by the company the Department made a decision to survey the major declining customers of the subject firm regarding their purchases of passenger and light truck radial tires during 1999, 2000 and 2001. The survey revealed that a major declining customer increased their imports (primarily from Mexico and/or Canada) of passenger and light truck radial tires, while decreasing their purchases of passenger and light truck radial tires from the subject firm during the relevant period

Conclusion

After careful review of the additional facts obtained on remand, I conclude that there were increased imports (primarily from Canada or Mexico) of articles like or directly competitive with those produced by the subject firm that contributed importantly to the worker separations and sales or production declines at the subject facility. In accordance with the provisions of the Trade Act, I make the following certification:

All workers of Goodyear Dunlop, N.A. LTD, Huntsville, Alabama (TA-W-40, 687) who became totally or partially separated from employment on or after November 28, 2000, through two years from the issuance of this revised determination, are eligible to apply for adjustment assistance under Section 223 of the Trade Act of 1974; and

All workers of Goodyear Dunlop, N.A. LTD, Huntsville, Alabama (NAFTA-05749) who became totally or partially separated from employment on or after December 11, 2000, through two years from the issuance of this revised determination, are eligible to apply for NAFTA-TAA under Section 250 of the Trade Act of 1974.

Signed at Washington, DC this 5th day of November 2002.
Edward A. Tomchick,
Director, Division of Trade Adjustment Assistance.

[FR Doc. 02-30063 Filed 11-26-02; 8:45 am]

BILLING CODE 4510-30-P